DEPARTMENT OF ENERGY

Federal Energy Regulatory Commission

Notice of Effectiveness of Exempt Wholesale Generator Status

| Docket Nos.
Umbriel Solar, LLC | EG23-113-000
Cattlemen Solar Park, LLC | EG23-114-000
Crooked Lake Solar, LLC | EG23-115-000
Indiana Crossroads Wind Farm II LLC | EG23-116-000
Pearl River Solar Park LLC | EG23-117-000
Riverstart Solar Park III LLC | EG23-118-000
Hecate Energy Desert Storage 1 LLC | EG23-119-000
Apex Solar LLC | EG23-120-000
Clearwater Wind East, LLC | EG23-121-000
Sagebrush ESS II, LLC | EG23-122-000
Caden Energix Endless Caverns, LLC | EG23-123-000
Caden Energix Axton LLC | EG23-124-000
Roundhouse Interconnect, LLC | EG23-125-000
Delta's Edge Solar, LLC | EG23-126-000
Roundhouse Renewable Energy II, LLC | EG23-127-000
Bronco Plains Wind II, LLC | EG23-128-000
Estrella Solar, LLC | EG23-129-000
Raceway Solar 1, LLC | EG23-130-000
Big Elm Solar, LLC | EG23-131-000
Angelo Storage, LLC | EG23-132-000
Angelo Solar, LLC | EG23-133-000
Shady Oaks Wind 2, LLC | EG23-134-000
Shady Oaks Transco Interconnection, LLC | EG23-135-000
Elawan Pitts Dudik Solar, LLC | EG23-136-000
Holtville BESS, LLC | EG23-137-000
Elawan Dileo Solar, LLC | EG23-138-000
Adams Solar LLC | EG23-139-000
Sun Valley Storage LLC | EG23-140-000
Libra Storage LLC | EG23-141-000

Take notice that during the month of June 2023, the status of the above-captioned entities as Exempt Wholesale Generators became effective by operation of the Commission's regulations. 18 CFR 366.7(a) (2022).

Dated: July 10, 2023.
Debbie-Anne A. Reese,
Deputy Secretary.

[FR Doc. 2023-14993 Filed 7-13-23; 8:45 am]

BILLING CODE 6717-01-P